DEPARTMENT OF ENERGY

Federal Energy Regulatory Commission

[Docket Nos. RP04-251-000; RP04-248-000 (not consolidated)]

El Paso Natural Gas Company; Notice of Technical Conference

July 1, 2004.

Take notice that a technical conference will be held on Tuesday July 27, 2004 at 9:30 a.m. (e.s.t.), in a room to be designated at the offices of the Federal Energy Regulatory Commission, 888 First Street, NE., Washington DC 20426. A room has also been reserved for Wednesday, July 28, 2004, if there is a need to continue the conference.

The conference will be held to discuss El Paso Natural Gas Company's filing in Docket No. RP04-251-000 to comply with Order No. 637 and the related filing in Docket No. RP04-248-000 regarding imbalance management services.

All interested parties and Staff are permitted to attend.

Magalie R. Salas,
Secretary.

[FR Doc. E4-1507 Filed 7-8-04; 8:45 am]

BILLING CODE 6717-01-P